DEPARTMENT OF TRANSPORTATION

Federal Aviation Administration

Notice of Request To Release Property at John C. Tune Airport, Nashville, TN (JWN)

AGENCY: Federal Aviation Administration (FAA), DOT.

ACTION: Notice.

SUMMARY: The Federal Aviation Administration is requesting public comment on a request by Metropolitan Nashville Airport Authority (MNAA), to release five access easements (8.1 acres) at John C. Tune Airport from federal obligations.

DATES: Comments must be received on or before July 25, 2022.

ADDRESSES: Comments on this notice may be emailed to the FAA at the following email address:

FAA/Memphis Airports District Office, Attn: L. Bernard Green, Community Planner, Leonard.Green@faa.gov

In addition, one copy of any comments submitted to the FAA must be mailed or delivered to Mr. Keith Wilschetz, Director, Strategic Planning, Metropolitan Nashville Airport Authority at the following address:

One Terminal Drive, Suite 501, Nashville, TN 37214

FOR FURTHER INFORMATION CONTACT: L. Bernard Green, Community Planner, Federal Aviation Administration, Memphis Airports District Office, 2600, Thousand Oaks Boulevard, Suite 2250, Memphis, TN 38118-2482, Leonard.Green@faa.gov. The application may be reviewed in person at this same location, by appointment.

SUPPLEMENTARY INFORMATION: The FAA proposes to rule and invites public comment on the request to release five access easements at John C. Tune Airport, 110 Tune Airport Drive, Nashville, TN 37209, under the provisions of 49 U.S.C. 47107(h)(2). The FAA determined that the request to release the five access easements at John C. Tune Airport (JWN) submitted by the Sponsor meets the procedural requirements of the Federal Aviation Administration and the release of these properties does not and will not impact future aviation needs at the airport. The FAA may approve the request, in whole or in part, no sooner than thirty days after the publication of this notice.

The request consists of the following:

The Metropolitan Nashville Airport Authority is proposing the release of five access easements totaling 8.1 acres, more or less. All five locations are located on the west side of the Cumberland River from the Airport, within two miles of the airport and include a radio tower easement, an access easement, and three tower easements. The five access easements are no longer required.

This request will release this property from federal obligations. This action is taken under the provisions of 49 U.S.C. 47107(h)(2).

Any person may inspect the request in person at the FAA office listed above under FOR FURTHER INFORMATION CONTACT.

In addition, any person may, upon request, inspect the request, notice and other documents germane to the request in person at John C. Tune Airport (JWN).

Issued in Memphis, Tennessee, on June 17, 2022.
Duane Leland Johnson,
Assistant Manager, Memphis Airports District Office, Southern Region.

[FR Doc. 2022-13398 Filed 6-22-22; 8:45 am]

BILLING CODE 4910-13-P